DEPARTMENT OF HEALTH AND HUMAN SERVICES

National Institutes of Health

Proposed Collection: 30-Day Comment Request; Collection of Customer Service, Demographic, and Smoking/Tobacco Use Information From the National Cancer Institute's (NCI) Cancer Information Service (CIS)

AGENCY: National Institutes of Health, Health and Human Services.

ACTION: Notice.

SUMMARY: In compliance with the requirement of the Paperwork Reduction Act of 1995 to provide an opportunity for public comment on proposed data collection projects, the National Institutes of Health, National Cancer Institute (NCI) will publish periodic summaries of proposed projects to be submitted to the Office of Management and Budget (OMB) for review and approval.

DATES: Comments regarding this information collection are best assured of having their full effect if received within 30 days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact Candace Maynard, Branch Chief, Cancer Information Service Branch, CISB/OCPL, 9609 Medical Center Drive, Rockville, MD 20850, or call non-toll-free number 240-276-6657 or email your request, including your address to: deatonc@mail.nih.gov. Formal requests for additional plans and instruments must be requested in writing.

SUPPLEMENTARY INFORMATION: This proposed information collection was previously published in the Federal Register on October 7, 2024 (89 FR 81088) and allowed 60 days for public comment. One public comment was received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with section 3507(a)(1)(D) of the Paperwork Reduction Act of 1995, the National Institutes of Health (NIH) has submitted to the Office of Management and Budget (OMB) a request for review and approval of the information collection listed below.

Proposed Collection Title: Collection of Customer Service, Demographic, and Smoking/Tobacco use Information from the National Cancer Institute's (NCI) Cancer Information Service (CIS), 0925-0208, Expiration Date 3/31/2025, REINSTATEMENT WITH CHANGE, National Cancer Institute (NCI), National Institutes of Health (NIH).

Need and Use of Information Collection: The National Cancer Institute (NCI) currently collects: (1) customer service and demographic information from clients of the Cancer Information Service (CIS) to properly plan, implement, and evaluate cancer education efforts; (2) smoking/tobacco use behavior of individuals seeking NCI's smoking cessation assistance to provide smoking cessation services tailored to the individual client's needs and track their smoking behavior at follow up. This is a request for OMB to approve a revised submission for an additional three years to provide ongoing customer service and collection of demographic information from CIS clients for the purpose of program planning and evaluation.

OMB approval is requested for 3 years. There are no costs to respondents other than their time. The total estimated annualized burden hours are 6,343 hours.

Estimated Annualized Burden Hours
Form name | Category of respondent | Number of respondents | Number of responses per respondent | Average time per response (in hours) | Total annual burden hours
Demographic & Customer Satisfaction Questions (Appendix 1A or 1AB) | Individuals | 15,754 | 1 | 3/60 | 788
Live Help Questions (Appendix 1B) | Individuals | 17,589 | 1 | 2/60 | 586
Smoking Cessation “Intake” Questions (Appendix 1C) | Individuals | 8,839 | 1 | 6/60 | 884
Smoking Call Backs (Appendix 1D) | Individuals | 8,840 | 1 | 4/60 | 589
VA Call Backs (Appendix 1E) | Individuals | 26,055 | 1 | 4/60 | 1,737
Cancer Info Call Backs (Appendix 1F) | Individuals | 1,841 | 1 | 4/60 | 123
Email Intake Form (Appendix 2) | Individuals | 9,740 | 1 | 10/60 | 1,623
Demographic & Customer Satisfaction Questions (Appendix 9) | Individuals | 400 | 1 | 2/60 | 13
Totals |  |  | 89,058 |  | 6,343

Dated: May 13, 2025.
Melissa M. Park,
Project Clearance Liaison, National Cancer Institute, National Institutes of Health.

[FR Doc. 2025-08761 Filed 5-15-25; 8:45 am]

BILLING CODE 4140-01-P